DEPARTMENT OF JUSTICE

National Institute of Corrections

Solicitation for a Cooperative Agreement—Inmate Behavior Management: Implementation and Evaluation

AGENCY: National Institute of Corrections, Department of Justice.

ACTION: Solicitation for a Cooperative Agreement.

SUMMARY: This project has two areas of focus: Assistance to selected jails in implementing the six elements of inmate behavior management and evaluation of the process and impact of implementation. The project award will be for a two-year period, and the project will be carried out in conjunction with the NIC Jails Division. The awardee will work closely with NIC Jails Division staff.

DATES: Applications must be received by 4 p.m. (EDT) on Friday, July 18, 2008.

ADDRESSES: Mailed applications must be sent to: Director, National Institute of Corrections, 320 First Street, NW., Room 5007, Washington, DC 20534.

Applicants are encouraged to use Federal Express, UPS, or similar service to ensure delivery by the due date as mail can be delayed due to security screening. Hand-delivered applications should be brought to 500 First Street, NW., Washington, DC 20534. Persons delivering applications should go to the front desk and call (202) 307-3106, extension 0 for pickup.

Faxed or e-mailed applications will not be accepted. However, electronic applications can be submitted via http://www.grants.gov.

FOR FURTHER INFORMATION CONTACT: A copy of this announcement and the required application forms can be downloaded from the NIC Web page at http://www.nicic.gov. Hard copies of the announcement can be obtained from Rita Rippetoe. She can be reached by phone at 1-800-995-6423, extension 44222 or by e-mail at rrippetoe@bop.gov. All technical or programmatic questions concerning this announcement should be directed to Fran Zandi, Correctional Program Specialist, National Institute of Corrections. She can be reached by phone at 1-800-995-6423, extension 71070 or by e-mail at fzandi@bop.gov.

SUPPLEMENTARY INFORMATION: Overview and Background: The National Institute of Corrections (NIC) has identified the following six key elements in the effective management of inmate behavior in jails:

Assessing the risks and needs of each inmate at various points during his/her detention;

Assigning inmates to appropriate housing;

Meeting inmates' basic needs;

Defining and conveying expectations for inmate behavior;

Supervising inmates; and

Keeping inmates productively occupied.

If a jail fully and properly implements all six elements, it should experience a significant reduction in the negative inmate behavior often experienced in jails, such as vandalism, violence, rule violations, and disrespectful behavior toward staff and other inmates.

In December 2004, the NIC Jails Division published information on these six elements in the Resource Guide for Jail Administrators (available on NIC's Web site http://www.nicic.gov and in hard copy on request from the NIC Information Center at 800-077-1461). Also, the NIC Jails Division has conducted related training and technical assistance to a variety of jails over the last few years. This project will allow NIC to provide targeted assistance to three jails in implementing inmate behavior management and evaluate the implementation process and the impact of implementation on inmate behavior and perceived levels of safety within the jail.

Scope of Work: The work to be accomplished through this cooperative agreement consists of meetings with NIC, selecting participating jails, visiting selected jails, gathering data, assisting jails in implementing inmate behavior management, attending the Inmate Behavior Management Training Program, and preparing and submitting reports. Following is a more through description of what is expected in each of these areas.

Meetings with NIC: At the beginning of the project, the awardee (project director) will meet with NIC staff in Washington, DC for one day to discuss all project components, set criteria by which participating jails will be selected, and refine the evaluation strategy proposed in the awardee's application. The awardee will be expected to meet with NIC staff at least three more times during the course of the project. Two of the three remaining meetings may take place in conjunction with other project activities. The third meeting (one day) will take place in Washington, DC.

Selection of participating jails: Based on the criteria set during the initial meeting, the awardee, in conjunction with NIC staff, will identify a variety of jails that are likely to meet the selection criteria. All three jail designs (linear/intermittent surveillance, podular/remote surveillance, and podular/direct supervision) must be represented among the selected jails. The awardee then will travel to 4-5 of these jails to determine final eligibility.

Initial visit to selected jails: The awardee will travel to each selected jail to meet with the sheriff, jail administrator, the heads of the security, classification, and inmate programs functions, and other key officials to discuss the project, detail what will be involved and the potential implications for resources and staff assignments, outline the assistance that may be provided through the cooperative agreement and NIC, and discuss the data gathering and evaluation activities. The awardee will also work with jail officials to design a preliminary plan for the implementation of inmate behavior management.

Data gathering: The awardee will gather data on negative inmate behavior and levels of safety in the jail as perceived by staff and inmates by at least three points: during the initial visit and meeting with jail staff, during the implementation process, and after inmate behavior management has been fully implemented. This will involve collection and analysis of both quantitative and qualitative data.

Assistance to jails in implementing inmate behavior management: The awardee, in conjunction with NIC, will identify areas in which each jail requires assistance and will conduct up to four short-term technical assistance events for each jail. This may include an overall assessment of the jail's status regarding each element of inmate behavior management; assistance with developing and implementing an inmate classification system and a housing plan; assistance in designing an inmate supervision plan (including meeting inmates' basic needs, setting and conveying behavioral expectations, and developing strategies for increasing the quantity and improving the quality of staff interaction with inmates); assistance in developing strategies for keeping inmates productively occupied; or miscellaneous short-term technical assistance as needed. Each technical assistance event will generally require about 2-3 days onsite, 1-2 days of preparation, and 1-2 days of report writing.

In addition to the assistance provided by the awardee, NIC will also fund teams of staff from each jail to attend its Inmate Behavior Management training program in Aurora, Colorado during the first quarter of the 2009 calendar year. Also, NIC will provide training on inmate behavior management to line staff and first-line supervisors at each jail on dates to be determined jointly by the awardee, NIC, and the jails.

Attendance at the Inmate Behavior Management Training Program: The awardee will attend, at the expense of this project, the Inmate Behavior Management training program in Aurora, Colorado during the first quarter of calendar year 2009. The awardee will work with the teams from the selected jails to further define their preliminary implementation plans for inmate behavior management based on what the teams learn in the program.

Reports: The awardee will submit written reports to NIC at the following times (at a minimum): After the initial meeting with each selected jail (including a description of the jail, an overview of the meeting, a copy of the jail's preliminary implementation plan, types of data collected, and conclusions drawn from the data collection); after the provision of on-site technical assistance to each jail; after each instance of data collection and analysis; and at the end of the project.

The end-of-project report will describe the implementation process in each jail, identify the assistance provided to the jail from the grantee and NIC, and will discuss, at a minimum, factors that hindered or facilitated implementation, the quality of implementation in each jail, and the effects of implementation in terms of negative inmate behavior and levels of safety in the jail as perceived by staff and inmates. All reports will be submitted to NIC on disk in Microsoft Word format and in hard copy (4 copies). Reports of technical assistance provided to the jails will also be sent in hard copy (1 copy) to the jail that received the assistance. The final report must be professionally edited before it is submitted to NIC.

Application Requirements: Applications must be submitted using OMB Standard Form 424, Federal Assistance and attachments. (Copies can be downloaded from the NIC Web page at http://www.nicic.gov.) The applications should be concisely written, typed double spaced, and referenced to the project by the “NIC Application Number” and Title referenced in this announcement.

Applicants must submit an original and three copies of the full proposal. The original should have the applicant's signature in blue ink. A cover letter must identify the responsible audit agency for the applicant's financial accounts.

The narrative portion of the application should include, at a minimum: A brief paragraph indicating the applicant's understanding of the purpose of the document and the issues to be addressed; a brief paragraph that summarizes the project goals and objectives; a clear description of the methodology that will be used to complete the project and achieve its goals; a statement or chart of measurable project milestones and timelines for the completion of each milestone; a description of the qualifications of the applicant organization and a resume for the principle and each staff member assigned to the project that documents relevant knowledge, skills, and abilities to carry out the project; and a budget that details all costs for the project, shows consideration for all contingencies for the project; and notes a commitment to work within the proposed budget.

Applicants' Conference: An applicants' conference will be held on Thursday, July 10, 2008 from 1 p.m. to 3 p.m. (EDT) at the NIC office, 500 1st Street NW., Washington, DC, 7th Floor. The conference will give applicants the opportunity to meet with NIC project staff to ask questions about the project and the application procedures.

Attendance at the conference is optional and provisions can be made for telephone conferencing for those who will be unable to attend in person. Applicants who plan to attend or who would like to participate via telephone should call Fran Zandi, NIC Jails Division, Correctional Program Specialist, at (800) 995-6423 x 71070 by Tuesday, July 8, 2008 to confirm attendance.

Authority: Public Law 93-415.

Funds Available: NIC is seeking the applicant's best ideas regarding accomplishment of the scope of work and the related costs for achieving the goals of this solicitation. The final budget and award amount will be negotiated between NIC and the successful applicant. Funds may be used only for the activities that are linked to the desired outcome of the project. No funds are transferred to state or local governments.

Funds will be awarded based on satisfactory performance of the awardee and upon the availability of funding in future years.

Eligibility of Applicants: An eligible applicant is any private agency, educational institution, organization, individual, or team with expertise the described areas. Applicants or the applicant team must be able to competently address both areas of focus in this project: Assistance to selected jails in implementing the six elements of inmate behavior management and evaluation of the process and impact of implementation. The applicant or applicant team must demonstrate a thorough understanding of jails and common issues in managing inmate behavior; each of the six elements of inmate behavior management, as NIC presents and teaches it; the process of implementing the six elements in a jail; and the design and implementation of a strategy to evaluate both the process and outcomes of implementing the six elements of inmate behavior management.

Review Considerations: Applications will be reviewed by a team of NIC staff. Among the criteria used to evaluate the applications are: Indication of a clear understanding of project requirements; background, experience, and expertise of the proposed project staff, including any subcontractors; clarity of the description of all elements and tasks in the project; practicality and sufficiency of timeframes allotted to complete tasks; technical soundness of project design and methodology; financial and administrative integrity of the proposal, including adherence to federal financial guidelines and processes; adequacy of budget detail, including consideration of all contingencies for the project and commitment to work within the proposed budget; and availability of project staff for meetings with NIC staff.

Number of Awards: One.

NIC Application Number: 08J65.

This number should appear as a reference line in the cover letter, in box 4a of Standard Form 424, and on the outside of the envelope in which the application is sent.

Catalog of Federal Domestic Assistance Number: 16.601.

Executive Order 12372: This project is not subject to the provisions of the executive order.

Morris L. Thigpen,
Director, National Institute of Corrections.

[FR Doc. E8-13553 Filed 6-16-08; 8:45 am]

BILLING CODE 4410-36-P